DEPARTMENT OF ENERGY

Federal Energy Regulatory Commission

[Docket No. PF13-16-000]

Algonquin Gas Transmission, LLC; Notice of Intent To Prepare An Environmental Impact Statement for the Planned Algonquin Incremental Market Project, Request for Comments on Environmental Issues, and Notice of Public Scoping Meetings

The staff of the Federal Energy Regulatory Commission (FERC or Commission) will prepare an environmental impact statement (EIS) that will discuss the environmental impacts of the Algonquin Incremental Market Project (AIM Project or Project) involving construction and operation of facilities by Algonquin Gas Transmission, LLC (Algonquin), an indirect, wholly-owned subsidiary of Spectra Energy Corp, in New York, Connecticut, Rhode Island, and Massachusetts. The Commission will use this EIS in its decision-making process to determine whether the Project is in the public convenience and necessity.

This notice announces the opening of the scoping process the Commission will use to gather input from the public and interested agencies on the Project. Your input will help the Commission staff determine what issues they need to evaluate in the EIS. Please note that the scoping period will close on October 14, 2013. However, this is not your only public input opportunity; please refer to the Review Process flow chart in Appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

You may submit comments in written form or verbally. Further details on how to submit written comments are in the Public Participation section of this notice. In lieu of or in addition to sending written comments, the Commission invites you to attend the public scoping meeting(s) scheduled as follows:

Date and time ᵃ | Location
Monday, September 30, 2013, 7:00 PM Eastern Time | Muriel H. Morabito Community Center, 29 Westbrook Drive, Cortlandt Manor, NY 10567.
Tuesday, October 1, 2013, 7:00 PM Eastern Time | Rogers Park Middle School, 21 Memorial Drive, Danbury, CT 06810.
Wednesday, October 2, 2013, 7:00 PM Eastern Time | Kelly Middle School, 25 Mahan Drive, Norwich, CT 06360.
Thursday, October 3, 2013, 7:00 PM Eastern Time | Holiday Inn Dedham, 55 Ariadne Road, Dedham, MA 02026.
ᵃ Algonquin representatives will be present one hour before each meeting (starting at 6:00 PM) to describe the Project, present maps, and answer questions.

The public meetings are designed to provide you with more detailed information and another opportunity to offer your comments on the AIM Project. Interested groups and individuals are encouraged to attend the meetings and present comments on the issues they believe should be addressed in the EIS. A transcript of each meeting will be made so that your comments will be accurately recorded.

This notice is being sent to the Commission's current environmental mailing list for this Project. State and local government representatives should notify their constituents of this planned Project and encourage them to comment on their areas of concern.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Summary of the Planned Project

Algonquin plans to construct, install, own, operate, and maintain the planned AIM Project, which will involve expansion of its existing pipeline and compressor station facilities located in New York, Connecticut, Rhode Island, and Massachusetts along with the abandonment of approximately 0.5 mile of existing mainline pipeline as a related component of the Project. Implementation of the Project will create the additional capacity from the Ramapo, New York and Mahwah, New Jersey receipt points on Algonquin's systems to various Algonquin city gate delivery points in Connecticut, and Massachusetts. If completed, the Project would be capable of delivering up to 342,000 dekatherms per day of natural gas.

The planned AIM Project includes approximately 37.0 miles of pipeline composed of the following facilities:

• Replacement of approximately 19.6 miles of existing 26-inch-diameter mainline pipeline with a 42-inch-diameter pipeline as follows:

○ 3.3 miles in Rockland County, New York (Ramapo to Stony Point Lift and Relay (L&R) ²);

² Lift and relay refers to a construction method by which an existing pipeline is removed and replaced with a new pipeline.

○ 11.9 miles in Rockland and Westchester counties, New York (Stony Point to Yorktown Heights L&R), which includes a new 1.2-mile-long horizontal directional drill (HDD) crossing of the Hudson River; and

○ 4.4 miles in Putnam County, New York and Fairfield County, Connecticut (Southeast to Mainline Valve (MLV) 19 L&R).

• Extension of an existing loop ³ pipeline with approximately 2.1 miles of additional 36-inch-diameter pipeline along Algonquin's existing pipeline right-of-way in Middlesex and Hartford counties, Connecticut (Cromwell Loop Extension).

³ A pipeline loop is a segment of pipe constructed parallel to an existing pipeline to increase capacity.

• Replacement of approximately 9.1 miles of existing 6-inch-diameter pipeline with a 16-inch diameter pipeline in New London County, Connecticut (E-1 System L&R).

• Installation of approximately 1.4 miles of new 12-inch-diameter loop pipeline along Algonquin's existing pipeline right-of-way in New London County, Connecticut (E-1 System Loop).

• Installation of approximately 4.8 miles of new lateral pipeline off of Algonquin's existing I-4 System Lateral in Norfolk and Suffolk counties, Massachusetts (West Roxbury Lateral), which includes:

○ approximately 4.2 miles of new 16-inch-diameter pipeline; and

○ approximately 0.6 mile of new 24-inch-diameter pipeline.

The majority of the pipeline facilities (approximately 28.7 miles or 78 percent of the total 37.0 miles) will replace existing Algonquin pipelines, while the remainder of the pipeline facilities (approximately 8.3 miles or 22 percent) will consist of new pipeline loops and one new lateral.

In addition to the pipeline facilities, Algonquin will modify 5 existing compressor stations and 25 existing metering and regulating (M&R) stations, and construct 2 new M&R stations. Modifications to the five existing compressor stations will add an additional 72,240 horsepower to its pipeline system. The compressor stations to be modified are located in Rockland and Putnam counties, New York; Middlesex, and Windham counties, Connecticut; and Providence County, Rhode Island. The AIM Project will include modifications to 25 existing Algonquin M&R stations in New York, Connecticut, and Massachusetts to accept the new gas flows associated with the proposed Project. The two new M&R stations to be constructed are located in Suffolk and Bristol counties, Massachusetts. Algonquin will also need to construct a number of pig ⁴ launcher and receiver facilities, one new MLV, and potentially modify five existing MLV sites.

⁴ A pig is an internal tool that can be used to clean and dry a pipeline and/or to inspect the pipeline for damage. A pig launcher is the launching stations from which the pig is launched.

The general location of the Project facilities is shown in Appendix 2.

Pending Project approvals, the projected in-service date of the AIM Project is November 2016. The work is scheduled to start in the 1st Quarter of 2015 and be completed by October 2016.

Land Requirements for Construction

Construction of the planned facilities would disturb about 608 acres of land for the pipeline and aboveground facilities. Of the 608 acres, 255 acres would consist of Algonquin's existing pipeline right-of-way or property associated with its existing aboveground facility sites. The remaining 353 acres would consist of land outside of Algonquin's existing pipeline right-of-way or aboveground facility sites. Following construction, Algonquin would maintain an additional 12 acres for permanent operation of the Project's facilities. Approximately 98 percent of the 37.0 miles of AIM Project pipeline facilities will be within or adjacent to existing rights-of-way, consisting of Algonquin pipeline rights-of-ways, public roadways, railways, and/or other utility rights-of-ways.

The EIS Process

The National Environmental Policy Act (NEPA) requires the Commission to take into account the environmental impacts that could result from an action whenever it considers the issuance of a Certificate of Public Convenience and Necessity. NEPA also requires us ⁵ to discover and address concerns the public may have about proposals. This process is referred to as scoping. The main goal of the scoping process is to focus the analysis in the EIS on the important environmental issues. By this notice, the Commission requests public comments on the scope of the issues to address in the EIS. We will consider all filed comments during the preparation of the EIS.

⁵ “We,” “us,” and “our” refer to the environmental staff of the Commission's Office of Energy Projects.

In the EIS we will discuss impacts that could occur as a result of the construction and operation and maintenance of the planned Project under these general headings:

• geology and soils;

• land use, including prime farmland;

• water resources, fisheries, and wetlands;

• cultural resources;

• vegetation and wildlife;

• air quality and noise;

• endangered and threatened species;

• traffic and transportation;

• public safety; and

• cumulative impacts.

We will also evaluate possible alternatives to the planned Project or portions of the Project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section of this notice.

With this notice, we are asking agencies with jurisdiction by law and/or special expertise with respect to the environmental issues related to this Project to formally cooperate with us in the preparation of the EIS.⁶ Agencies that would like to request cooperating agency status should follow the instructions for filing comments provided under the Public Participation section of this notice. Currently, the U.S. Army Corps of Engineers (USACE) and U.S. Environmental Protection Agency (EPA) have expressed their intention to participate as a cooperating agency in the preparation of the EIS to satisfy their NEPA responsibilities related to this Project.

⁶ The Council on Environmental Quality regulations addressing cooperating agency responsibilities are at Title 40, Code of Federal Regulations, § 1501.6.

Consultations Under Section 106 of the National Historic Preservation Act

In accordance with the Advisory Council on Historic Preservation's implementing regulations for Section 106 of the National Historic Preservation Act, we are using this notice to initiate consultation with applicable State Historic Preservation Office(s) (SHPO), and to solicit their views and those of other government agencies, interested Indian tribes, and the public on the Project's potential effects on historic properties.⁷ We will define the Project-specific Area of Potential Effects (APE) in consultation with the SHPO(s) as the Project develops. On natural gas facility projects, the APE at a minimum encompasses all areas subject to ground disturbance (examples include construction right-of-way, contractor/pipe storage yards, compressor stations, and access roads). Our EIS for this project will document our findings on the impacts on historic properties and summarize the status of consultations under Section 106.

⁷ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by Algonquin. This preliminary list of issues may change based on your comments and our analysis.

• Geology—Effects as a result of blasting to remove existing surface and bedrock during Project construction.

• Biological Resources—Effects on threatened and endangered species and sensitive habitats potentially occurring within or adjacent to the Project right-of-way.

• Water Resources—Effects on waterbodies and wetlands including the crossing of the Hudson River using the HDD construction method; and the potential inadvertent release of drilling fluids associated with the HDD method.

• Land Use—Effects on residential and commercial areas, traffic and transportation corridors, and agricultural lands from construction of Project facilities.

• Cultural Resources—Effects on archaeological sites and historic resources.

• Air Quality and Noise—Effects on the local air quality and noise environment from construction and operation and maintenance of planned Project facilities.

• Reliability and Safety—The assessment of hazards associated with natural gas pipelines and aboveground facilities; the potential for Project-related fires during construction and operation and maintenance activities; and the development of an evacuation strategy/plan in case of a fire or natural disaster.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before October 14, 2013. However, this is not your only public input opportunity; please refer to the Review Process flow chart in Appendix 1.

For your convenience, there are three methods you can use to submit your comments to the Commission. In all instances, please reference the Project docket number (PF13-16-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes: Federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the planned Project.

Copies of the completed draft EIS will be sent to the environmental mailing list for public review and comment. If you would prefer to receive a paper copy of the document instead of the CD version or would like to remove your name from the mailing list, please return the attached Information Request (Appendix 3).

Becoming an Intervenor

Once Algonquin files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the Project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF13-16). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: September 13, 2013.
Kimberly D. Bose,
Secretary.

[FR Doc. 2013-22781 Filed 9-18-13; 8:45 am]

BILLING CODE 6717-01-P